DEPARTMENT OF TRANSPORTATION

Federal Aviation Administration

14 CFR Part 95

[Docket No. 30362; Amdt. No. 441]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, May 15, 2003.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169. (Mail Address: P.O. Box 25082, Oklahoma City, OK 73125), telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, D.C. on April 1, 2003.
James J. Ballough,
Director, Flight Standards Service.

Adoption of the Amendment

Accordingly, pursuant to the authority delegated to me by the Administrator, part 95 of the Federal Aviation Regulations (14 CFR part 95) is amended as follows effective at 0901 UTC, May 15, 2003.

1. The authority citation for part 95 continues to read as follows:

Authority: 49 U.S.C. 106(g), 40103, 40106, 40113, 40114, 40120, 44502, 44514, 44719, 44721.

PART 95—[AMENDED]

2. Part 95 is amended to read as follows:

Revisions to IFR Altitudes & Changeover Points
[Amendment 441 Effective Date, May 15, 2003]
From | To | MEA
Color Routes
§ 95.10 Amber Federal Airway 1 Is Amended To Read in Part
Hinchinbrook, AK NDB | Campbell Lake, AK NDB | #*9,000
*8,000—MOCA
#GPS MEA 8000
Color Routes
§ 95.6 Blue Federal Airway 28 Is Amended To Read in Part
Nichols, AK NDB | Sitka, AK NDB | #*6,900
*6,000—MOCA
#GPS MEA 6000
§ 95.6001 Victor Routes—U.S. | § 95.6026 VOR Federal Airway 26 Is Amended To Read in Part
Grand Junction, CO VORTAC | Raymn, CO FIX NE BND SW BND | 11,000 10,000
§ 95.6113 VOR Federal Airways 113 Is Amended To Read in Part
Boise, ID VORTAC | Salmon, ID VOR/DME | 16,500
§ 95.6194 VOR Federal Airway 194 Is Amended To Read in Part
McComb, MS VORTAC | Mizze, MS FIX | *3,000
*2,000—MOCA
Pauld, MS FIX | Meridian, MS VORTAC | 2,100
§ 95.6263 VOR Federal Airway 263 Is Amended To Read in Part
Hugo, CO VORTAC | *Lime, CO FIX | 9,000
*9,000—MRA
§ 95.6311 VOR Federal Airway 311 Is Amended To Read in Part
Tokee, AK FIX | Flips, AK FIX | ##*9,000
*6,000—MOCA
#MEA is established with a gap in Navigaton signal Coverage
#GPS MEA 6000
§ 95.6317 VOR Federal Airway 317 Is Amended To Read in Part
Gesti, AK FIX | Level Island, AK VOR/DME | #*7,000
*5,000—MOCA
#GPS MEA 5000
Level Island, AK VOR/DME | Hoods, AK FIX | *9,000
*5,900—MOCA
Hoods, AK FIX | Sisters Island, AK VORTAC | *7,000
*5,000—MOCA
Sisters Island, AK VORTAC | Csper, AK FIX | #*7,000
*5,000—MOCA
#GPS MEA 5000
Csper, AK FIX | *Hapit, AK FIX | #**15,000
*15,000—MRA
**4,400—MOCA
#GPS MEA 8000
§ 95.6319 VOR Federal Airway 319 Is Amended To Read in Part
Yakutat, AK VORTAC | Malas, AK FIX | 2,600
Malas, AK FIX | Katat, AK FIX | ##*10,000
*5,000—MOCA
#MEA is established with a gap in Navigation signal coverage
#GPS MEA 9000
Katat, AK FIX | Casel, AK FIX | #*7,000
*5,000—MOCA
*GPS MEA 5000
Casel, AK FIX | EYAKS, AK FIX | *5,000
*2,600—MOCA
Johnstone Point, AK VORTAC | Peppi, AK FIX | 5,000
Wiler, AK FIX | *Anchorage, AK VOR/DME | #**10,000
*5,000—MCA Anchorage VOR/DME
**7,000—MOCA
#GPS MEA 7000
§ 95.6320 VOR Federal Airway 320 Is Amended To Read in Part
Nelli, AK FIX | Nowell, AK FIX | *10,000
*6,500—moca
Nowell, AK FIX | Hoper, AK FIX | #*10,000
*8,500—MOCA
#GPS MEA 8,500
Hoper, AK FIX | Anchorage, AK VOR/DME | #7,000
*6,000—MOCA
#GPS MEA 6,000
§ 95.6428 VOR Federal Airway 428 Is Amended To Read in Part
Biorka Island, AK VORTAC | Sisters Island, AK VORTAC | #*7,000
*6,000—MOCA
#GPS MEA 6000
Sisters Island, AK VORTAC | Haines, AK NDB | ##*10,000
*8,500—MOCA
#GPS MEA 8500
#MEA is established with a gap in Navigation signal coverage
Haines, AK NDB | Whitehorse, CA VOR/DME | #*10,000
*9,500—MOCA
#GPS MEA 9500
§ 95.6430 VOR Federal Airway 430 Is Amended To Read in Part
Havre, MT VOR/DME | Glasgow, MT VOR/DME | *6,500
*5,500—MOCA
Glasgow, MT VOR/DME | Williston, ND VORTAC | *6,000
*5,000—MOCA
§ 95.6431 VOR Federal Airway 431 Is Amended To Read in Part
Sisters Island, AK VORTAC | *Lyric, AK FIX | #**8,000
*8,000—MRA
**5,800—MOCA
#GPS MEA 5800
§ 95.6440 VOR Federal Airway 440 Is Amended To Read in Part
Sandspit, CA VORTAC | Mocha, AK FIX | ###*8,000
*4,600—MOCA
#For that Airspace over U.S. Territory
#MEA is established with a gap in Navigation signal coverage
#GPS MEA 4600
Mocha, AK FIX | Latch, AK FIX | ##*12,000
*4,000—MOCA
#MEA is established with a gap in Navigation signal coverage
#GPS MEA 8000
Salis, AK FIX | *Hapit, AK FIX | ##*9,000
*15,000—MRA
**2,000—MOCA
#MEA is established with a gap in Navigation signal coverage
#GPS MEA 8000
Hapit, AK FIX | Centa, AK FIX | ##*9,000
*2,000—MOCA
#MEA is established with a gap in Navigation signal coverage
#GPS MEA 8000
Centa, AK FIX | Yakutat, AK VORTAC | #*3,000
*2,000—MOCA
#GPS MEA 2000
Ocult, AK FIX | Middleton Island, AK VOR/DME | #*8,000
*2,000—MOCA
#GPS MEA 7000
Middleton Island, AK VOR/DME | Hoper, AK FIX | #*10,000
*8,500—MOCA
#GPS MEA 8500
Hoper, AK FIX | Anchorage, AK VOR/DME | #*7,000
*6,000—MOCA
#GPS MEA 6000
§ 95.6473 VOR Federal Airway 473 Is Amended To Read in Part
Level Island, AK VOR/DME | Flips, AK FIX | #*7,000
*6,000—MOCA
#GPS MEA 6000
§ 95.6543 VOR Federal Airway 543 Is Amended To Read in Part
Pauld, MS FIX | Meridian, MS VORTAC | 2,100

[FR Doc. 03-8562 Filed 4-11-03; 8:45 am]

BILLING CODE 4910-13-M